FEDERAL MINE SAFETY AND HEALTH REVIEW COMMISSION

29 CFR Part 2700

Procedural Rules; Correction

AGENCY: Federal Mine Safety and Health Review Commission.

ACTION: Correcting amendments.

SUMMARY: This document contains a correction to the final regulations which were published in the Federal Register of Wednesday, September 8, 1999 (64 FR 48707). Those regulations amended the procedural rules of the Federal Mine Safety and Health Review Commission.

DATES: Effective April 16, 2002.

FOR FURTHER INFORMATION CONTACT: Thomas A. Stock, Acting General Counsel, Office of the General Counsel, Federal Mine Safety and Health Review Commission, 1730 K Street, NW, 6th Floor, Washington, DC 20006, telephone 202-653-5610 (202-566-2673 for TDD Relay). These are not toll-free numbers.

SUPPLEMENTARY INFORMATION:

Background

On September 8, 1999 (64 FR 48707), the Federal Mine Safety and Health Review Commission published in the Federal Register as final rules various amendments to its procedural rules. With respect to § 2700.76, the Commission's procedural rule relating to interlocutory review, the Commission intended to revise only the introductory text of paragraph (a), and to leave unchanged paragraphs (a)(1) and(a)(2), as well as paragraphs (b) through (d). As published, paragraphs (a)(1) and (a)(2) were inadvertently omitted from § 2700.76.

Need for Correction

As published, § 2700.76(a) does not contain paragraphs (a)(1) and (a)(2), which were intended to be included in the rule. This document corrects that omission and restores those paragraphs which were inadvertently omitted.

List of Subjects in 29 CFR Part 2700

Administrative practice and procedure, Ex parte communications, Lawyers, Penalties.

Accordingly, 29 CFR part 2700 is corrected by making the following correcting amendment:

PART 2700—PROCEDURAL RULES

1. The authority citation for part 2700 continues to read as follows:

Authority: 30 U.S.C. 815, 820 and 823.

2. Revise paragraph (a) of § 2700.76 to read as follows:

§ 2700.76 Interlocutory review.

(a) Procedure. Interlocutory review by the Commission shall not be a matter of right but of the sound discretion of the Commission. Procedures governing petitions for review of temporary reinstatement orders are found at § 2700.45(f).

(1) Review cannot be granted unless:

(i) The judge has certified, upon his own motion or the motion of a party, that his interlocutory ruling involves a controlling question of law and that in his opinion immediate review will materially advance the final disposition of the proceeding; or

(ii) The Judge has denied a party's motion for certification of the interlocutory ruling to the Commission, and the party files with the Commission a petition for interlocutory review within 30 days of the Judge's denial of such motion for certification.

(2) In the case of either paragraph (a)(1)(i) or (ii) of this section, the Commission, by a majority vote of the full Commission or a majority vote of a duly constituted panel of the Commission, may grant interlocutory review upon a determination that the Judge's interlocutory ruling involves a controlling question of law and that immediate review may materially advance the final disposition of the proceeding. Interlocutory review by the Commission shall not operate to suspend the hearing unless otherwise ordered by the Commission. Any grant or denial of interlocutory review shall be by written order of the Commission.

* * * * *

Dated: April 9, 2002.
Theodore F. Verheggen,
Chairman, Federal Mine Safety and Health Review Commission.

[FR Doc. 02-9143 Filed 4-15-02; 8:45 am]

BILLING CODE 6735-01-P